ENVIRONMENTAL PROTECTION AGENCY

[FRL-8534-8]

Proposed CERCLA Settlement Agreement for Recovery of Past Response Costs Incurred at the McLaren Tailings Site at Cooke City, Park County, MT

AGENCY: Environmental Protection Agency.

ACTION: Notice and request for public comment.

SUMMARY: In accordance with the requirements of section 122(i) of the Comprehensive Environmental Response, Compensation, and Liability Act, as amended (“CERCLA”), 42 U.S.C. 9622(i), notice is hereby given of a proposed settlement agreement under section 122(h)(1) of CERCLA, 42 U.S.C. 9622(h)(1), concerning the McLaren Tailings Site at Cooke City, Park County, Montana. This settlement, embodied in a CERCLA section 122(h) Agreement for Recovery of Past Response Costs (“Agreement”), is designed to resolve Camjac, Inc.'s liability at the Site for past response costs incurred at the Site through covenants under section 107 of CERCLA, 42 U.S.C. 9607. The proposed Agreement requires Camjac, Inc. to pay a total of $5,000.00 to the EPA Hazardous Substances Superfund and transfer the property that it owns which is part of the Site to the State of Montana.

Opportunity for Comment: For thirty (30) days following the date of publication of this notice, the Agency will consider all comments received, and may modify or withdraw its consent to the Agreement if comments received disclose facts or considerations which indicate that the Agreement is inappropriate, improper, or inadequate. The Agency's response to any comments received will be available for public inspection at EPA Region 8's Central Records Center, 1595 Wynkoop Street, 3rd Floor, in Denver, Colorado.

DATES: Comments must be submitted on or before March 31, 2008.

ADDRESSES: The proposed Agreement and additional background information relating to the settlement are available for public inspection at EPA Region 8's Central Records Center, 1595 Wynkoop Street, 3rd Floor, in Denver, Colorado. Comments and requests for a copy of the proposed Agreement should be addressed to Carol Pokorny (8ENF-RC), Technical Enforcement Program, U.S. Environmental Protection Agency, 1595 Wynkoop Street, Denver, Colorado 80202-1129, and should reference the McLaren Tailings Site Settlement Agreement and the EPA docket number, CERCLA-08-2008-0002.

FOR FURTHER INFORMATION CONTACT: Carol Pokorny, Enforcement Specialist (8ENF-RC), Technical Enforcement Program, U.S. Environmental Protection Agency, 1595 Wynkoop Street, Denver, Colorado 80202-1129, (303) 312-6970.

SUPPLEMENTARY INFORMATION: Regarding the proposed administrative settlement under section 122(h)(1) of CERCLA, 42 U.S.C. 9622(h)(1): In accordance with section 122(i) of CERCLA, 42 U.S.C. 9622(i), notice is hereby given that the terms of the Agreement have been agreed to by Camjac, Inc., the U.S. Environmental Protection Agency, and the U.S. Department of Justice. By the terms of the proposed Agreement, Camjac, Inc. will pay a total of $5,000.00 to the Hazardous Substance Superfund and will transfer the property it owns, which is part of the Site, to the State of Montana. To be eligible to enter in the Agreement, Camjac, Inc. was required to submit a response to EPA's Request for Information, including financial information, to substantiate its claim of an inability-to-pay past response costs.

It is so Agreed:

Dated: February 21, 2008.
Andrew M. Gaydosh,
Assistant Regional Administrator, Office of Enforcement, Compliance and Environmental Justice, U.S. Environmental Protection Agency, Region 8.

[FR Doc. E8-3804 Filed 2-27-08; 8:45 am]

BILLING CODE 6560-50-P